DEPARTMENT OF HEALTH AND HUMAN SERVICES

Meeting of the Tick-Borne Disease Working Group

AGENCY: Office of HIV/AIDS and Infectious Disease Policy, Office of the Assistant Secretary for Health, Office of the Secretary, Department of Health and Human Services.

ACTION: Notice.

SUMMARY: The Department of Health and Human Services (HHS) announces the eighth meeting of the Tick-Borne Disease Working Group (Working Group) on December 3, 2018, from 1:00 p.m. to 4:00 p.m., Eastern Time. The eighth meeting will be an online meeting held via webcast. The Working Group will review the work of the public comments subcommittee, discuss the release of the 2018 Report to Congress, recognize the subcommittee members for their contributions to the 2018 Report, and address the next steps and transition to a new Working Group for the 2020 Report to Congress.

DATES: The meeting will be held on December 3, 2018, from 1:00 p.m. to 4:00 p.m., Eastern Time.

ADDRESSES: This will be an online meeting that is held via webcast. Members of the public may attend the meeting via webcast. Instructions for attending the meeting via webcast will be posted one week prior to the meeting at: https://www.hhs.gov/ash/advisory-committees/tickbornedisease/meetings/index.html.

FOR FURTHER INFORMATION CONTACT: James Berger, Office of HIV/AIDS and Infectious Disease Policy, Office of the Assistant Secretary for Health, Department of Health and Human Services; via email at tickbornedisease@hhs.gov or by phone at 202-795-7697.

SUPPLEMENTARY INFORMATION: The Working Group invites public comment on issues related to the Working Group's charge. It may be provided via webcast at the meeting or in writing. Persons who wish to provide public comment via webcast should review directions at https://www.hhs.gov/ash/advisory-committees/tickbornedisease/meetings/index.html before submitting a request to do so via email at tickbornedisease@hhs.gov. Requests to provide webcast comments are due on or before November 26, 2018, and will be limited to three minutes each to accommodate as many speakers as possible. If more requests are received than can be accommodated, speakers will be randomly selected. The nature of the comments will not be considered in making this selection. Public comments may also be provided in writing. Individuals who would like to provide written comments should review directions at https://www.hhs.gov/ash/advisory-committees/tickbornedisease/meetings/index.html before sending their comments to tickbornedisease@hhs.gov on or before November 26, 2018. During the meeting, the Working Group will review the work of the public comments subcommittee, discuss the release of the 2018 Report to Congress, recognize the subcommittee members for their contributions to the 2018 Report, and address the next steps and transition to a new Working Group for the 2020 Report to Congress.

Background and Authority: The Tick-Borne Disease Working Group was established on August 10, 2017, in accordance with section 2062 of the 21st Century Cures Act, and the Federal Advisory Committee Act, 5 U.S.C. App., as amended, to provide expertise and review all HHS efforts related to tick-borne diseases to help ensure interagency coordination and minimize overlap, examine research priorities, and identify and address unmet needs. In addition, the Working Group will report to the Secretary and Congress on their findings and any recommendations for the federal response to tick-borne disease prevention, treatment and research, and addressing gaps in those areas.

Dated: October 25, 2018.
James J. Berger,
Senior Advisor for Blood and Tissue Policy, Designated Federal Officer, Tick-Borne Disease Working Group.

[FR Doc. 2018-24260 Filed 11-5-18; 8:45 am]

BILLING CODE 4150-28-P